SURFACE TRANSPORTATION BOARD

[Docket No. FD 36487]

Katahdin Railcar Services LLC—Change in Operators Exemption—Ohio Terminal Railway Company

Katahdin Railcar Services LLC (KRS), a Class III carrier, has filed a verified notice of exemption pursuant to 49 CFR 1150.41 to assume Ohio Terminal Railway Company (OTRC)'s right and common carrier obligation to provide rail service to all customers located within the industrial park owned by Hannibal Real Estate LLC (HRE) on a 12.2-mile rail line between milepost 60.5 near Powhatan Point, Ohio, and milepost 72.7 near Hannibal, in Monroe County, Ohio (the Omal Line).¹

¹ KRS states that it operates over the Omal Line pursuant to a lease with Ohio River Partners Shareholders LLC (ORPS) under which KRS assumed the exclusive right and common carrier obligation to provide freight rail service on and along the Omal Line except to industries located within the HRE industrial park. See also Verified Notice 1-2; Fortress Inv. Group LLC—Exemption for Intra-Corporate Family Transaction—Ohio River Partners S'holder LLC, FD 36402 (STB served May 15, 2020).

According to the verified notice, the proposed change in operators implements a settlement agreement among ORPS, OTRC, and HRE that resolves certain state court litigation concerning the respective rights of OTRC and ORPS to use the Omal Line. According to the verified notice, under that settlement agreement KRS is to assume the right and common carrier obligation to provide service to the HRE industrial park, replacing OTRC. On March 9, 2021, OTRC replied to the verified notice, stating that it does not object to the change in operators.

According to KRS, the change in operators transaction does not involve any provision or agreement that may limit future interchange with a third-party connecting carrier. KRS certifies that its projected revenues as a result of the transaction will not result in the creation of a Class II or Class I rail carrier and that its revenues will not exceed $5 million.

Under 49 CFR 1150.42(b), a change in operator exemption requires that notice be given to shippers. KRS states that notice of the proposed change in operators was provided to all customers located within the HRE industrial park, to HRE, and to OTRC.

The transaction may be consummated on or after April 18, 2021, the effective date of the exemption.²

² On March 19, 2021, KRS filed a supplement to its verified notice; as such, the verified notice is deemed to have been filed on March 19, 2021.

If the verified notice contains false or misleading information, the exemption is void ab initio. Petitions to revoke the exemption under 49 U.S.C. 10502(d) may be filed at any time. The filing of a petition to revoke will not automatically stay the effectiveness of the exemption. Petitions for stay must be filed no later than April 9, 2021 (at least seven days before the exemption becomes effective).

All pleadings, referring to Docket No. FD 36487, should be filed with the Surface Transportation Board via e-filing on the Board's website. In addition, a copy of each pleading must be served on KRS' representative, Terence M. Hynes, Sidley Austin LLP, 1501 K St. NW, Washington, DC 20005.

According to KRS, this action is categorically excluded from historic preservation reporting requirements under 49 CFR 1105.8(b) and from environmental reporting requirements under 49 CFR 1105.6(c).

Board decisions and notices are available at www.stb.gov.

Decided: March 24, 2021.
By the Board, Allison C. Davis, Director, Office of Proceedings.
Kenyatta Clay,
Clearance Clerk.

[FR Doc. 2021-06460 Filed 3-29-21; 8:45 am]

BILLING CODE 4915-01-P